DEPARTMENT OF HEALTH AND HUMAN SERVICES

Centers for Medicare & Medicaid Services

[Document Identifier: CMS-10256, CMS-381 and CMS-1856/1893]

Agency Information Collection Activities: Proposed Collection; Comment Request

Agency: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Medicare Care Management Performance (MCMP) Demonstration; Use: Section 649 of the Medicare Prescription Drug, Improvement, and Modernization Act of 2003 (MMA) requires the Secretary of the U.S. Department of Health and Human Services to establish a pay-for-performance (P4P) demonstration program with physicians to meet the needs of eligible beneficiaries through the adoption and use of health information technology (HIT) and evidence-based outcome measures. The Medicare Care Management Performance Demonstration was established in response to the MMA. Mathematica Policy Research, Inc. is conducting an evaluation of the MCMP on behalf of CMS. The goals of the three-year demonstration are to improve quality of care to eligible fee-for-service Medicare beneficiaries and encourage the implementation and use of HIT. The specific objectives are to promote continuity of care, help stabilize medical conditions, prevent or minimize acute exacerbations of chronic conditions, and reduce adverse health outcomes. The MMA authorizes a total of four sites in both urban and rural areas. The demonstration sites are in Arkansas, California, Massachusetts, and Utah. The MCMP demonstration will target practices serving at least 50 traditional fee-for-service Medicare beneficiaries with congestive heart failure, coronary heart disease, and diabetes for whom they provide primary care.

An impact analysis using a comparison group design will be conducted as part of the evaluation. Physician practices in selected non-demonstration States that match most closely those in demonstration States on key factors will make up the comparison group. The impact analysis will use data from four data sources: (1) A beneficiary survey, (2) a physician survey, (3) Medicare claims and eligibility data, and (4) practice-specific data. This request relates to the two surveys. Form Number: CMS-10256 (OMB# 0938-New); Frequency: Once; Affected Public: Business or other for-profits, and Individual and households; Number of Respondents: 6,400; Total Annual Responses: 6,400; Total Annual Hours: 1,472.

2. Type of Information Collection Request: Extension of a currently approved collection; Title of Information Collection: Identification of Extension Units of Outpatient Physical Therapy (OPT)/Outpatient Speech Pathology (OSP) Providers; Use: Medicare provides OPT/OSP providers to be surveyed to determine compliance with Federal Regulations. All locations where OPT/OSP providers furnish services must meet these requirements. The CMS-381 is the form used to identify all the OPT/OSP locations. Form Number: CMS-381 (OMB# 0938-0273); Frequency: Yearly; Affected Public: State, Local, or Tribal Governments; Number of Respondents: 495; Total Annual Responses: 495; Total Annual Hours: 866.

3. Type of Information Collection Request: Extension of a currently approved collection; Title of Information Collection: Outpatient Physical Therapy Speech Pathology Survey Report and Supporting Regulations in 42 CFR 485.701-485.729. Use: The Medicare program requires OPT providers to meet certain health and safety requirements. The request for certification form is used by State agency surveyors to determine if minimum Medicare eligibility requirements are met. The survey report form records the results of the on-site survey. Form Number: CMS-1856 and 1893 (OMB# 0938-0065); Frequency: Yearly and occasionally; Affected Public: State, Local, or Tribal Governments; Number of Respondents: 495; Total Annual Responses: 495; Total Annual Hours: 866.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by August 5, 2008:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ____, Room C4-26-05, 7500 Security Boulevard, Baltimore, Maryland 21244-1850.

Dated: May 30, 2008.
Michelle Shortt,
Director, Regulations Development Group, Office of Strategic Operations and Regulatory Affairs.

[FR Doc. E8-12573 Filed 6-5-08; 8:45 am]

BILLING CODE 4120-01-P